DEPARTMENT OF THE INTERIOR

Fish and Wildlife Service

[FWS-R4-R-2011-N055; 40136-1265-0000-S3]

Bogue Chitto National Wildlife Refuge, LA and MS; Draft Comprehensive Conservation Plan and Environmental Assessment

AGENCY: Fish and Wildlife Service, Interior.

ACTION: Notice of availability; request for comments.

SUMMARY: We, the Fish and Wildlife Service (Service), announce the availability of a draft comprehensive conservation plan and environmental assessment (Draft CCP/EA) for Bogue Chitto National Wildlife Refuge (NWR) in St. Tammany and Washington Parishes, Louisiana, and Pearl River County, Mississippi, for public review and comment. In this Draft CCP/EA, we describe the alternative we propose to use to manage this refuge for the 15 years following approval of the final CCP.

DATES: To ensure consideration, we must receive your written comments by June 27, 2011.

ADDRESSES: You may obtain a copy of the Draft CCP/EA by contacting Ms. Tina Chouinard, via U.S. mail at Fish and Wildlife Service, 3006 Dinkins Lane, Paris, TN 38242. Alternatively, you may download the document from our Internet site: http://southeast.fws.gov/planning under “Draft Documents.”

FOR FURTHER INFORMATION CONTACT: Ms. Tina Chouinard, at 731/432-0981 (telephone).

SUPPLEMENTARY INFORMATION:

Introduction

With this notice, we continue the CCP process for Bogue Chitto NWR. We started the process through a notice of intent in the Federal Register on February 20, 2009 (74 FR 7913). For more about the refuge and our CCP process, please see that notice.

Established in 1980, Bogue Chitto NWR is one of eight refuges managed as part of the Southeast Louisiana National Wildlife Refuge Complex. The refuge headquarters is approximately 9 miles northeast of the city of Slidell, Louisiana. The 36,502-acre refuge is bisected by the Pearl River in Louisiana and Mississippi. On the Mississippi side of the river, the refuge is bounded by Old River Wildlife Management Area (15,400 acres) to the north and by the State of Louisiana's Pearl River Wildlife Management Area (35,031) to the south, thereby forming an 87,000-acre block of protected forested wetlands and adjacent uplands within the Pearl River Basin.

White-tailed deer, squirrel, turkey, waterfowl, and hog hunting, as well as fishing, are offered to the public. The threatened and endangered species found on the refuge are ringed map turtle, gopher tortoise, inflated heelsplitter mussel, and gulf sturgeon.

Access is primarily by boat on the refuge's Louisiana side and road access is available on the refuge's Mississippi side. In 2002, the new Holmes Bayou walking trail was unveiled on the Louisiana side of the refuge. This 3/4-mile walking trail offers a unique journey into the interior of Bogue Chitto NWR's majestic habitat. The Pearl River Turnaround area is being developed as a site for education and interpretation, as well as a site for the annual youth fishing rodeo.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Significant issues addressed in this Draft CCP/EA include: (1) Managing for invasive species and species of special concern, such as the gopher tortoise and ringed map turtle; (2) managing mixed pine upland and bottomland hardwood forests; (3) managing for land protection; (4) examining for a wilderness study area; (5) enhancing wildlife-dependent public use: And (6) increasing permanent staff.

CCP Alternatives, Including Our Proposed Alternative

We developed three alternatives for managing the refuge and chose “Alternative B” as the proposed alternative. A full description of each alternative is in the Draft CCP/EA. We summarize each alternative below.

Alternative A—Current Management (No Action)

The no action alternative would maintain the status quo and was developed using anticipated conditions in the area of Bogue Chitto NWR over the next 15 years. It assumes that current conservation management and land protection programs and activities by the Service and its stakeholders would continue to follow past trends. This alternative is included for the purpose of comparison to baseline conditions and is not considered to be the most effective management strategy for achieving the vision and goals of the refuge.

Under this alternative, wildlife population monitoring/surveying would be limited to current, primarily mandated species, without the benefit of additional focus on species of concern and species chosen as indicators of a healthy ecosystem. Forest management efforts for wildlife benefit would occur opportunistically. Public use programs would not change or increase with demand and would not be adapted based on their effects on refuge resources. Forestry and fire management programs would not be evaluated for efficiency and effectiveness.

The wilderness character of Holmes Island would probably not be altered appreciably under this alternative. No facilities' development would take place on the island; however, the island could still be subjected to habitat improvement projects, such as forest thinning and prescribed fire. If the island were to be thinned, depending on the logging method(s) used, this could necessitate temporary skid roads and pads for timber harvesting equipment, which could potentially, at least temporarily, compromise Holmes Island's wilderness character.

Under Alternative A, negative effects to soils, water, air, and other physical parameters would be mitigated to some extent, but not as well as benefits that could be provided with the use of strategic habitat management. The biological environment would remain protected, but certain systems could suffer if not systematically monitored using focused species as indicators. Management under Alternative A would not adversely affect socioeconomic values of the area, but the refuge would not achieve its potential for providing needed educational and wildlife-dependent recreational activities.

Alternative B—Resource-Focused Management (Proposed Alternative)

Implementing Alternative B would be the most effective management action for meeting the purposes of Bogue Chitto NWR. Monitoring and surveying would be conducted systematically, after assessing which species should be targeted based on their population status and ability to indicate health of important habitat. Restoration efforts, the fire program, and forest management would reflect best management practices determined after examination of historical regimes, soil types and elevation, and the current hydrological system. Management actions would be monitored for effectiveness and adapted to changing conditions, knowledge, and technology. A Habitat Management Plan would be developed for future habitat projects and to evaluate previous actions.

The wilderness character of Holmes Island would be ensured under this alternative, pending a final decision by the Service, the President, and the Congress on whether to adopt the refuge's recommendation that it be designated a unit of the National Wilderness Preservation System. While this would be a benefit of Alternative B, one adverse effect of including Holmes Island as a Wilderness Study Area would be to restrict management options, such as conducting forest thinning and prescribed fire on the island for the sake of wildlife habitat improvement.

Public use programs would be updated to educate visitors about the reasons for specific refuge management actions, and to provide quality experiences for refuge visitors. The refuge complex headquarters in Lacombe, Louisiana, would be equipped to provide additional information about Bogue Chitto NWR. Options and opportunities would be explored to expand visitor contact areas on the refuge. In an increasingly developing region, Alternative B would strive to achieve a balanced program of wildlife-dependent recreational activities and protection of wildlife resources.

This alternative proposes to add six new positions to current staffing dedicated primarily to Bogue Chitto NWR in order to continue to protect refuge resources, provide visitor services, and attain facilities and equipment maintenance goals.

Alternative C—User-Focused Management

Alternative C emphasizes managing the refuge for wildlife-dependent recreational uses. The majority of staff time and efforts would support public use activities, including hunting, fishing, wildlife observation, wildlife photography, and environmental education and interpretation. In general, the focus of refuge management would be on expanding public use activities to the fullest extent possible, while conducting only mandated resource protection such as conservation of threatened and endangered species, migratory birds, and archaeological resources.

All management programs for conservation of wildlife and habitat, such as monitoring, surveying, and marsh management, would support species and resources of importance for public use. Emphasis would be placed more on interpreting and demonstrating these programs than actual implementation. Providing access with trails would be maximized, as would public use facilities throughout the refuge. Federal trust species and archaeological resources would be monitored as mandated. Any negative impacts to soil, water, air, and other physical parameters would be observed only when highly visible effects manifested, because monitoring would not be based on indicator species or species of concern. With the majority of staff time and funds supporting a public use program, wildlife-dependent recreation and environmental education and interpretation could be more successful than in the other alternatives. Refuge resources would be protected from over-use so that quality public-use experiences would not be reduced. The socioeconomic value of the refuge to the surrounding area would be the highest under this alternative.

Land acquisitions within the approved acquisition boundary would be based on importance of the habitat for public use. The refuge headquarters and visitor center would be developed for public use activities.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997, Public Law 105-57.

Dated: March 22, 2011.
Mark J. Musaus,
Acting Regional Director.

[FR Doc. 2011-13214 Filed 5-26-11; 8:45 am]

BILLING CODE 4310-55-P